FEDERAL COMMUNICATIONS COMMISSION

[OMB 3060-1200]

Information Collection Approved by the Office of the Management and Budget (OMB)

AGENCY: Federal Communications Commission.

ACTION: Notice.

SUMMARY: The Federal Communications Commission has received Office of Management and Budget (OMB) approval for a revision of a currently approved public information collection pursuant to the Paperwork Reduction Act (PRA) of 1995 (44 U.S.C. 3501-3520). An agency may not conduct or sponsor a collection of information unless it displays a currently valid OMB control number, and no person is required to respond to a collection of information unless it displays a currently valid control number. Comments concerning the accuracy of the burden estimates and any suggestions for reducing the burden should be directed to the person listed in the FOR FURTHER INFORMATION CONTACT section below.

FOR FURTHER INFORMATION CONTACT: Nicole Ongele, Office of Managing Director, FCC, at (202) 418-2991, or email: Nicole.Ongele@fcc.gov.

SUPPLEMENTARY INFORMATION: OMB Control Number: 3060-1200.

OMB Approval Date: September 21, 2015.

OMB Expiration Date: September 30, 2018.

Title: Application to Participate in Rural Broadband Experiments and Post-Selection Review of Rural Broadband Experiment Winning Bidders.

Form Number: FCC Form 5620.

Respondents: Business or other for-profit, and Not-for-profit institutions.

Estimated Number of Respondents and Responses: 47 respondents; 135 responses.

Estimated Time per Response: 2-20 hours.

Frequency of Response: One-time; occasional reporting requirements and annual recordkeeping requirements.

Obligation to Respond: Required to obtain or retain benefits. Statutory authority for this information collection is contained in 47 U.S.C. 151-154 and 254.

Estimated Total Annual Burden: 1,834 hours.

Total Annual Cost: No cost(s).

Privacy Act Impact Assessment: No impact(s).

Nature and Extent of Confidentiality: Information collected in FCC Form 5620 will be confidential. Information collected in the November interim progress report and in the build-out milestone certifications will be made publicly available.

Needs and Uses: On January 31, 2014, the Commission released the Tech Transitions Order, 79 FR 11327, February 28, 2014, that adopted targeted experiments to explore the impact of technology transitions on rural Americans, including those living on Tribal lands. On July 14, 2014, the Commission released the Rural Broadband Experiments Order, 79 FR 45705, August 6, 2014, which established certain parameters and requirements for the rural broadband experiments adopted by the Commission in the Tech Transitions Order. Under this information collection, the Commission will collect information to determine whether winning bidders are technically and financially capable of receiving funding for rural broadband experiment projects. To aid in collecting this information regarding the rural broadband experiments, the Commission has created FCC Form 5620, which provisionally selected winning bidders use to demonstrate that they have the technical and financial qualifications to successfully complete the proposed project within the required timeframes. This form is available electronically through the Internet, and electronic filing will be required. The Commission will also collect information through a November interim progress report and build-out milestone certifications accompanied by evidence that will enable the Commission to monitor the progress of the rural broadband experiments and ensure that the support is used for its intended purposes. Finally, under this information collection, rural broadband experiment recipients must retain records required to demonstrate to auditors that the support was used consistent with the terms and conditions for a period of ten years. The Communications Act of 1934, as amended requires the “preservation and advancement of universal service.” The information collection requirements reported under this new collection are the result of various Commission actions to promote the Act's universal service goals, while minimizing waste, fraud, and abuse.

Federal Communications Commission.
Marlene H. Dortch,
Secretary.

[FR Doc. 2015-25457 Filed 10-6-15; 8:45 am]

BILLING CODE 6712-01-P